DEPARTMENT OF JUSTICE

Federal Bureau of Investigation

Agency Information Collection Activities: New Collection, Comments Requested

ACTION: 60 Day emergency notice of information collection under review: new collection; voluntary appeal file brochure.

The Department of Justice (DOJ), Federal Bureau of Investigation (FBI) has submitted the following information collection request to the Office of Management and Budget (OMB) for review and clearance in accordance with emergency review procedures of the Paperwork Reduction Act of 1995. OMB approval has been requested by March 1, 2002. The proposed information collection is published to obtain comments from the public and affected agencies. If granted, the emergency approval is only valid for 180 days. Comments should be directed to the OMB, Office of Information and Regulatory Affairs, Attn: Department of Justice Desk Officer, (202) 395-6466, Washington, DC, 20530.

During the first 60 days of this same review period, a regulator review of this information collection is also being undertaken. All comments and suggestions, or questions regarding additional information, to include obtaining a copy of the proposed information collection instrument with instructions, should be directed to Natalie Goff-Haggerty, Program Analyst, Federal Bureau of Investigation, CJIS Division, Module A-3, 1000 Custer Hollow Road, Clarksburg, West Virginia 26306, or facsimile at (304) 625-2356.

Request written comments and suggestions from the public and affected agencies concerning the proposed collection of information. Your comments should address one or more of the following four points:

(1) Evaluate whether the proposed collection of information is necessary for the proper performance of the function of the agency, including whether the information will have practical utility;

(2) Evaluate the accuracy of the agency's estimate of the burden of the proposed collection of the information, including the validity of the methodology and assumptions used;

(3) Enhance the quality, utility, and clarity of the information to be collected; and

(4) Minimize the burden of collection of information on those who are to respond, including through the use of appropriate automated, electronic, mechanical, or other technological collection techniques or other forms of information technology, e.g., permitting electronic submission of responses.

Overview of this information:

(1) Type of Information Collection: New data collection.

(2) Title of the Form: Voluntary Appeal File Brochure.

(3) Agency Form Number, if any, and the applicable component of the department sponsoring the collection: Form Number: None.

Sponsor: Criminal Justice Information Services Division of, Federal Bureau of Investigation, Department of Justice

(4) Affected Public who will be asked or required to respond, as well as a brief abstract: Primary: Any individual requesting entry into the FBI/NICS Voluntary Appeal File (VAF).

Brief Abstract: Under the NICS final rule, 28 CFR 25.9(b)(1), (2), (3), published on (DATE), the NICS must destroy all identifying information on allowed transactions before the start of the next NICS operational day. If a potential purchaser is delayed or denied a firearm, then successfully appeals the decision, the NICS would not be able to retain the record(s) of the appeal or any supporting documentation/information. The purchaser would be continually if the record could not be updated, would be required to appeal the decision and resubmit documentation/information to overtime the appeal on subsequent purchases. The proposed change in the regulation would permit lawful purchasers to request that the NICS maintain documentation/information on the individual in a VAF will be maintained by the NICS for the purpose of preventing the future lengthy delays or denials of a firearm transfer.

The application contained on the VAF brochure will be the means for an individual to request entry into the VAF. This form will be available to the public through Federal Firearm Licensees, state points of contacts for gun checks, and on the NICS website at he internet address: www.fbi.gov/programs/nics/index/htm.

(5) An estimate of the total number of respondents and the amount of time estimated for an average respondent to respond: The number of persons requesting entry into the VAF is estimated to be 24,000 individuals. It takes an average of five minutes to read and complete all areas of the application, an estimated two hours for the process of fingerprinting including travel, and 25 minutes to mail the form for a total of two and a half hours estimated burden to the respondent.

(6) An estimate to the total burden (in hours) associated with the collection: The number of persons requesting entry into the VAF is estimated to be 24,000 individuals. The time it takes each individual to complete the process is 2.5 hours. The total public burden hours is 24,000 respondents times 2.5 hours which would equal 60,000 total burden hours.

If additional information is required contact Mr. Robert B. Briggs, Department Clearance Officer, Information Management and Security Staff, Justice Management Division, United States Department of Justice, Patrick Henry Building, Suite 1600, 601 D Street, NW., Washington, DC 20530.

Dated: March 20, 2002.
Robert B. Briggs,
Department Clearance Officer, Department of Justice.

[FR Doc. 02-7169 Filed 3-25-02; 8:45 am]

BILLING CODE 4410-02-M